DEPARTMENT OF LABOR

Employment and Training Administration

[TA-W-51,884]

Louisiana Pacific Corporation, Belgrade Studmill, Belgrade, MT; Notice of Termination of Investigation

Pursuant to section 221 of the Trade Act of 1974, as amended, an investigation was initiated on May 28, 2003 in response to a petition filed by a company official on behalf of workers at Louisiana Pacific Corporation, Belgrade Studmill, Belgrade, Montana.

The petitioner has requested that the petition be withdrawn. Consequently, the investigation has been terminated.

Signed at Washington, DC this 10th day of June 2003.
Richard Church,
Certifying Officer, Division of Trade Adjustment Assistance.

[FR Doc. 03-15489 Filed 6-18-03; 8:45 am]

BILLING CODE 4510-30-P